DEPARTMENT OF COMMERCE

National Oceanic and Atmospheric Administration

[Docket No. 000616180-2245-06]

RIN 0648-ZA91

NOAA Climate and Global Change Program, Program Announcement

AGENCY: Office of Global Programs, Office of Oceanic and Atmospheric Research, National Oceanic and Atmospheric Administration, Commerce.

ACTION: Notice.

SUMMARY: This document amends a notice published in the Federal Register on April 8, 2002, regarding the NOAA Climate and Global Change program. This amendment is intended to show NOAA's interest in supporting new 2003 funding for the Regional Integrated Sciences and Assessments (RISA) program area and to incorporate further details of program emphasis and topic areas. Full program details can also be found in the RISA program information sheet at http://www.ogp.noaa.gov/mpe/csi.risa/html. Potential applicants should look at the specific wording of the initial Federal Register notice.

DATES: Letters of intent must be received at the Office of Global Program (OGP) no later than November 25, 2002. Applicants who have not received a response to their letter of intent within four weeks should contact the Program Manager. Full proposals must be received at OGP no later than January 24, 2003. We anticipate that review of full proposals will occur during January and February 2003, and funding should begin during late spring of 2003 for most approved projects. Applicants should be notified of their status within three months. June 1, 2003, should be used as the proposed start date on proposals, unless otherwise directed by the Program Manager. All proposals must be submitted in accordance with the guidelines below. Failure to heed these guidelines will result in proposals being returned without review.

ADDRESSES: Letter of Intent and Proposals should be submitted to: Office of Global Programs; National Oceanic and Atmospheric Administration; 1100 Wayne Avenue, Suite 1210; Silver Spring, MD 20910-5603.

FOR FURTHER INFORMATION CONTACT: Irma duPree at the above address, or at (301) 427-2089 ext. 107, fax: (301) 427-2222, Internet: irma.duPree@noaa.gov.

SUPPLEMENTARY DATA: This notice incorporates the OGP Program Announcement published at 67 FR 16733 (April 8, 2002) which sets forth OGP program requirements binding upon this solicitation including the evaluation and selection process. The program description, background and requirements, as well as guidelines for applications are included in that notice and are not repeated here.

The Regional Integrated Sciences and Assessments (RISA) Program will accept applications towards the goal to support regionally focused integrated research and assessments. The program integrates climatic predictions and information within the institutional and social constraints decision makers work within. A successful research team must have as leaders scientists who have proven to be successful in their own field of research. They must be sufficiently flexible and creative enough to combine their expertise with researchers of other disciplines and decision makers to produce genuinely integrated research applicable to end users' needs. It is important that the proposal illustrates that the research: (1) Will achieve the strategic goals of the nationwide program; (2) can be completed successfully; (3) will not substantially duplicate other projects currently funded by NOAA or other federal agencies, and (4) demonstrates the proposed team has the capacity to integrate the physical and social science research around two or three tractable issues of importance to decision makers in the specified region.

For further technical information contact: Harvey Hill at the above address, phone: (301) 427-2089 ext. 197, e-mail: harvey.hill@noaa.gov.

Other Requirements: The Department of Commerce pre-award notification requirements for grants and cooperative agreement contained in the Federal Register notice of October 1, 2001 (66 FR 49917), are applicable to this solicitation.

Classification: It has been determined that this notice does not contain policies with Federalism implications as that term is defined in E.O. 13132.

This notice contains collection-of-information requirements subject to the Paperwork Reduction Act. The use of standard forms 424, 424A, and SF-LLL have been approved by OMB under the respective control numbers 0348-0043, 0348-0044, and 0348-0046.

Notwithstanding any other provision of law, no person is required to respond to nor shall a person be subject to a penalty for failure to comply with a collection of information subject to the requirements of the Paperwork Reduction Act, unless that collection of information displays a current valid OMB control number. This notice has been determined to be not significant for purposes of Executive Order 12866.

Notice and comment are not required under the Administrative Procedure Act, 5 U.S.C. 553, or any other law, for notices relating to public property, loans, grants, benefits or contracts (5 U.S.C. 553(a)). Because of notice and comment is not required, a regulatory flexibility analysis is not required and has not been prepared for this notice, 5 U.S.C. 601 et seq.

Authority: 49 U.S.C. 44720(b); 33 U.S.C. 883d; 15 U.S.C. 2904; 15 U.S.C. 2931 et seq.; (CFDA No. 11.431)—Climate and Atmospheric Research.

Dated: November 5, 2002.
Louisa Koch,
Acting Assistant Administrator, National Oceanic and Atmospheric Administration.

[FR Doc. 02-28663 Filed 11-8-02; 8:45 am]

BILLING CODE 3510-KA-M